DEPARTMENT OF ENERGY

Federal Energy Regulatory Commission

[Docket No. IC24-9-000]

Commission Information Collection Activities (FERC-567); Consolidated Comment Request; Extension

AGENCY: Federal Energy Regulatory Commission.

ACTION: Notice of information collections and request for comments.

SUMMARY: In compliance with the requirements of the Paperwork Reduction Act of 1995, the Federal Energy Regulatory Commission (Commission or FERC) is soliciting public comment on the currently approved information collection, FERC-567, Gas Pipeline Certificates: Annual Reports of System Flow Diagrams (OMB Control Number 1902-0005).

DATES: Comments on the collections of information are due [INSERT DATE 60 days after date of publication in the Federal Register].

ADDRESSES: You may submit your comments (identified by Docket No. IC24-9-000 and FERC-567) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Jean Sonneman may be reached by email at DataClearance@FERC.gov, or by telephone at (202) 502-6362.

SUPPLEMENTARY INFORMATION:

Title: FERC-567, Gas Pipeline Certificates: Annual Reports of System Flow Diagrams.

OMB Control No.: 1902-0005.

Type of Request: Three-year extension of the FERC-567 information collection requirements with no changes to the current reporting requirements.

Abstract: Per 18 CFR 260.8(a), each major interstate natural gas company with a system delivery capacity exceeding 100,000 Mcf ¹ per day is required to submit, by June 1 of each year, diagrams reflecting operating conditions on the pipeline's main transmission system during the previous 12 months ending on December 31. The submitted information must include (i) configuration and location of installed pipeline facilities; (ii) receipt and delivery points between shippers, and pipeline companies; (iii) location of compressor stations on a pipeline system; (iv) pipeline diameters; (v) maximum allowable operating pressures; (vi) suction and discharge pressures at compressor stations; (vii) installed horsepower and volumes compressed at each compressor station; (viii) existing shippers currently nominating service under firm contracts on each pipeline company; and (ix) peak capacity on the system. The information is collected so that it is available in the event the Commission needs to confirm pipeline facility data.

¹ Mcf is a unit of measurement for natural gas that equals, 000 cubic feet.

Type of Respondents: Natural gas pipeline companies with a system delivery capacity in excess of 100,000 Mcf per day.

Estimate of Annual Burden: The Commission estimates the annual public reporting burden ² and cost ³ for the information collection as follows.

² Burden is defined as the total time, effort, or financial resources expended by persons to generate, maintain, retain, or disclose or provide information to or for a Federal agency. For further explanation of what is included in the information collections burden, reference 5 CFR 1320.3.

³ The Commission staff estimates that the average respondent for FERC-567 is similarly situated to the Commission, in terms of salary plus benefits. Based on FERC's current annual average of $207,786 (for salary plus benefits), the average hourly cost is $100/hour.

FERC-567—Gas Pipeline Certificates: Annual Reports of System Flow Diagrams
Respondents | Number of respondents | Annual number of responses per respondent | Total number of responses | Average burden & cost per response | Total annual burden hours & total annual cost | Cost per respondent ($)
| (1) | (2) | (1) * (2) = (3) | (4) | (3) * (4) = (5) | (5) ÷ (1)
Natural Gas Pipelines | 124 | 1 | 124 | 4 hrs.; $400 | 496 hrs.; $49,600 | $400

Comments: Comments are invited on: (1) whether the collections of information is necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: March 4, 2024.
Debbie-Anne A. Reese,
Acting Secretary.

[FR Doc. 2024-05013 Filed 3-8-24; 8:45 am]

BILLING CODE 6717-01-P